DEPARTMENT OF COMMERCE

National Oceanic and Atmospheric Administration

[RTID 0648-XB837]

Marine Mammals; File No. 25843

AGENCY: National Marine Fisheries Service (NMFS), National Oceanic and Atmospheric Administration (NOAA), Commerce.

ACTION: Notice; receipt of application.

SUMMARY: Notice is hereby given that Peggy Stap, Marine Life Studies, 6 Carlton Drive, Del Rey Oaks, CA 93940, has applied in due form for a permit to conduct research on marine mammals.

DATES: Written, telefaxed, or email comments must be received on or before March 28, 2022.

ADDRESSES: The application and related documents are available for review by selecting “Records Open for Public Comment” from the “Features” box on the Applications and Permits for Protected Species (APPS) home page, https://apps.nmfs.noaa.gov, and then selecting File No. 25843 from the list of available applications. These documents are also available upon written request via email to NMFS.Pr1Comments@noaa.gov.

Written comments on this application should be submitted via email to NMFS.Pr1Comments@noaa.gov. Please include File No. 25843 in the subject line of the email comment.

Those individuals requesting a public hearing should submit a written request via email to NMFS.Pr1Comments@noaa.gov. The request should set forth the specific reasons why a hearing on this application would be appropriate.

FOR FURTHER INFORMATION CONTACT: Shasta McClenahan, Ph.D. or Erin Markin, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant proposes to conduct research to (1) develop a baseline genetic database for three odontocete species; (2) study foraging strategies; and (3) investigate the abundance, distribution, movement, and occurrence of cetacean species within coastal and offshore waters of California and Oregon. Up to 25 species of cetaceans may be taken during research including the following ESA-listed species or distinct population segments (DPS): blue (Balaenoptera musculus), fin (B. physalus), gray (Western North Pacific DPS; Eschrichtius robustus), humpback (Mexico and Central America DPSs; Megaptera novaeangliae), killer (Southern Resident DPS; Orcinus orca), North Pacific right (Eubalaena japonica), sei (B. borealis), and sperm (Physeter macrocephalus) whales. Cetaceans may be taken during vessel surveys including unmanned aircraft systems for counts, above water and underwater photography and videography, photo-identification, photogrammetry, behavioral observations, passive acoustic recording, echosounder for prey mapping, and non-invasive genetic sampling (exhaled air, remote skin swab, sloughed skin, and feces). Five species of pinnipeds, including ESA threatened Guadalupe fur seals (Arctocephalus townsendi), may be unintentionally harassed during research activities. See the application for complete numbers of animals requested by species and procedure. The permit is requested for five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: February 18, 2022.
Julia M. Harrison,
Chief, Permits and Conservation Division, Office of Protected Resources, National Marine Fisheries Service.

[FR Doc. 2022-03919 Filed 2-23-22; 8:45 am]

BILLING CODE 3510-22-P